DEPARTMENT OF TRANSPORTATION

Federal Aviation Administration

14 CFR Part 39

[Docket No. 2002-NE-04-AD; Amendment 39-12754; AD 2002-10-08]

RIN 2120-AA64

Airworthiness Directives; General Electric Company CF6-80E1 Series Turbofan Engines

AGENCY: Federal Aviation Administration, DOT.

ACTION: Final rule; request for comments.

SUMMARY: This amendment adopts a new airworthiness directive (AD) that is applicable to General Electric Company (GE) CF6-80E1 series turbofan engines installed on Airbus Industrie A330 series airplanes. This action requires initial and repetitive thrust reverser inspections and checks, and allows extended threshold and repetitive inspection intervals for certain inspections if an optional double p-seal configuration is installed. This amendment is prompted by reports of service-induced hardware deterioration that reduces the overall thrust reverser system protection against inadvertent deployment, which can result in loss of control of the airplane. The actions specified in this AD are intended to prevent inadvertent in-flight thrust reverser deployment, which can result in loss of control of the airplane.

DATES: Effective June 27, 2002. The incorporation by reference of certain publications listed in the rule is approved by the Director of the Federal Register as of June 27, 2002.

Comments for inclusion in the Rules Docket must be received on or before July 22, 2002.

ADDRESSES: Submit comments in triplicate to the Federal Aviation Administration (FAA), New England Region, Office of the Regional Counsel, Attention: Rules Docket No. 2002-NE-04-AD, 12 New England Executive Park, Burlington, MA 01803-5299. Comments may be inspected at this location, by appointment, between 8:00 a.m. and 4:30 p.m., Monday through Friday, except Federal holidays. Comments may also be sent via the Internet using the following address: “9-ane-adcomment@faa.gov”. Comments sent via the Internet must contain the docket number in the subject line.

The service information referenced in this AD may be obtained from Middle River Aircraft Systems, Mail Point 46, 103 Chesapeake Park Plaza, Baltimore, MD, 21220-4295, attn: Warranty Support, telephone: (410) 682-0094, fax: (410) 682-0100. This information may be examined, by appointment, at the FAA, New England Region, Office of the Regional Counsel, 12 New England Executive Park, Burlington, MA; or at the Office of the Federal Register, 800 North Capitol Street, NW., suite 700, Washington, DC.

FOR FURTHER INFORMATION CONTACT: Karen Curtis, Aerospace Engineer, Engine Certification Office, FAA, Engine and Propeller Directorate, 12 New England Executive Office Park; telephone (781) 238-7192; fax (781) 238-7199.

SUPPLEMENTARY INFORMATION: The FAA has determined that thrust reverser inspections and checks are necessary as precautionary actions, to provide an acceptable level of safety for GE CF6-80E1 series turbofan engines. This determination has been made after reviewing thrust reverser safety analyses following a report of inadvertent thrust reverser deployment on another make and model engine. This amendment is prompted by the following reports:

• The translating cowl inner bondment (bulb) seal can become deformed during use in service, resulting in cuts, tears, nicks, holes, and missing sections that compromise aerodynamic stow retention.

• The forward (Dagmar) fairing and the aft frame assembly can become damaged during use in service, compromising stow retention.

• The center drive unit (CDU) cone brake holding torque can become less than the minimum acceptable value to the extent that the CDU cone brake becomes inoperative.

• The thrust reverser electromechanical brake holding torque can become less than the minimum acceptable value to the extent that the thrust reverser actuation system (TRAS) lock becomes inoperative. This holding torque of less than the minimum acceptable value can also be caused by damage to a flexible shaft assembly.

These conditions, if not corrected, could result in inadvertent in-flight thrust reverser deployment, which can result in loss of control of the airplane.

Manufacturer's Service Information

The FAA has reviewed and approved the technical contents of Middle River Aircraft Systems alert service bulletin (ASB) No. CF6-80E1 SB 78A5043, Revision 1, dated January 22, 2002 that describes procedures for initial and repetitive thrust reverser inspections and checks.

FAA's Determination of an Unsafe Condition and Required Actions

Although this affected engine model is not used on any airplanes that are registered in the United States, the possibility exists this engine model could be used on airplanes that are registered in the United States in the future. This AD is being issued to prevent inadvertent in-flight thrust reverser deployment, which can result in loss of control of the airplane. This AD requires initial and repetitive thrust reverser inspections and checks, and allows extended threshold and repetitive inspection intervals for certain inspections if an optional double p-seal configuration is installed. The actions are required to be done in accordance with the service bulletin described previously.

Immediate Adoption of This AD

Since there are currently no domestic operators of this engine model, notice and opportunity for prior public comment are unnecessary. Therefore, a situation exists that allows the immediate adoption of this regulation.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2002-NE-04-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-10-08 General Electric Company: Amendment 39-12754. Docket No. 2000-NE-04-AD.

Applicability

This airworthiness directive (AD) is applicable to General Electric Company (GE) CF6-80E1 series turbofan engines. These engines are installed on, but not limited to, Airbus Industrie A330 series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To prevent inadvertent in-flight thrust reverser deployment, which can result in loss of control of the airplane, do the following:

Engines That Do Not Have Improved Double P-Seal Configuration

(a) For engines that do not have the improved double P-seal configuration introduced by Middle River Aircraft Systems (MRAS) service bulletin (SB) 78-5037, original issue or Revision 1, inspect and check each fan thrust reverser half in accordance with 2.B., 2.C., and 2.D. of the Accomplishment Instructions of MRAS alert service bulletin (ASB) No. 78A5043, Revision 1, dated January 22, 2002, as follows:

(1) Perform initial inspections and checks before exceeding 7,000 flight hours time-since-new (TSN) or 1,000 flight hours time-in-service (TIS), whichever occurs later, after the effective date of this AD.

(2) Thereafter, perform inspections and checks at intervals not to exceed 7,000 flight hours TIS since last inspection or check.

Engines That Do Have Improved Double P-Seal Configuration

(b) For engines that do have the improved double P-seal configuration introduced by MRAS SB 78-5037, original issue or Revision 1, inspect and check each fan thrust reverser half in accordance with 2.B. and 2.C. of the Accomplishment Instructions of MRAS ASB No. 78A5043, Revision 1, dated January 22, 2002, as follows:

(1) Perform initial inspections and checks before exceeding 25,000 flight hours TSN or 1,000 flight hours TIS, whichever occurs later, after the effective date of this AD.

(2) Thereafter, perform inspections and checks at intervals not to exceed 25,000 flight hours TIS since last inspection or check.

(c) Also for engines that do have the improved double P-seal configuration introduced by MRAS SB 78-5037, original issue or Revision 1, check each fan thrust reverser half in accordance with 2D. of the Accomplishment Instructions of MRAS ASB No. 78A5043, Revision 1, dated January 22, 2002, as follows:

(1) Perform initial check before exceeding 7,000 flight hours TSN or 1,000 flight hours TIS, whichever occurs later, after the effective date of this AD.

(2) Thereafter, perform checks at intervals not to exceed 7,000 flight hours TIS since last check.

Alternative Methods of Compliance

(d) An alternative method of compliance or adjustment of the compliance time that provides an acceptable level of safety may be used if approved by the Manager, Engine Certification Office (ECO). Operators must submit their requests through an appropriate FAA Principal Maintenance Inspector, who may add comments and then send it to the Manager, ECO.

Note 2: Information concerning the existence of approved alternative methods of compliance with this airworthiness directive, if any, may be obtained from the ECO.

Special Flight Permits

(e) Special flight permits may be issued in accordance with §§ 21.197 and 21.199 of the Federal Aviation Regulations (14 CFR 21.197 and 21.199) to operate the airplane to a location where the requirements of this AD can be done.

Documents That Have Been Incorporated By Reference

(f) The inspections and checks must be done in accordance with Middle River Aircraft Systems Alert Service Bulletin No. CF6-80E1 SB 78A5043, Revision 1, dated January 22, 2002. This incorporation by reference was approved by the Director of the Federal Register in accordance with 5 U.S.C. 552(a) and 1 CFR part 51. Copies may be obtained from Middle River Aircraft Systems, Mail Point 46, 103 Chesapeake Park Plaza, Baltimore, MD, 21220-4295, attn: Warranty Support, telephone: (410) 682-0094, fax: (410) 682-0100. Copies may be inspected, by appointment, at the FAA, New England Region, Office of the Regional Counsel, 12 New England Executive Park, Burlington, MA; or at the Office of the Federal Register, 800 North Capitol Street, NW, suite 700, Washington, DC.

Effective Date

(g) This amendment becomes effective on June 27, 2002.

Issued in Burlington, Massachusetts, on May 9, 2002.
Jay J. Pardee,
Manager, Engine and Propeller Directorate, Aircraft Certification Service.

[FR Doc. 02-12631 Filed 5-22-02; 8:45 am]

BILLING CODE 4910-13-U